DEPARTMENT OF COMMERCE

International Trade Administration

[A-580-809]

Circular Welded Non-Alloy Steel Pipe From the Republic of Korea: Final Results of Antidumping Duty Administrative Review; 2013-2014

AGENCY: Enforcement and Compliance, International Trade Administration, Department of Commerce.

SUMMARY: On December 8, 2015, the Department of Commerce (the Department) published the Preliminary Results of its administrative review of the antidumping duty order on circular welded non-alloy steel pipe (CWP) from the Republic of Korea (Korea) for the period November 1, 2013, through October 31, 2014.¹ The review covers three producers/exporters of the subject merchandise: Husteel Co., Ltd. (Husteel), Hyundai HYSCO (HYSCO), and SeAH Steel Corporation (SeAH). For these final results, we continue to find that Husteel and HYSCO sold subject merchandise at below normal value. We also determine that SeAH did not make sales of subject merchandise at below normal value.

¹ See Circular Welded Non-Alloy Steel Pipe From the Republic of Korea: Preliminary Results and Partial Rescission of Antidumping Duty Administrative Review; 2013-2014, 80 FR 76267 (December 8, 2015) (Preliminary Results) and accompanying Preliminary Decision Memorandum.

DATES: Effective Date: June 20, 2016.

FOR FURTHER INFORMATION CONTACT: Joseph Shuler, Jennifer Meek, or Lana Nigro, AD/CVD Operations, Office I, Enforcement and Compliance, International Trade Administration, U.S. Department of Commerce, 14th Street and Constitution Avenue NW., Washington, DC 20230; telephone (202) 482-1293, (202) 482-2778, or (202) 482-1779, respectively.

Background

Following the Preliminary Results, the Department sent a supplemental questionnaire to SeAH and received a timely response.²

² See Letter to SeAH, “Antidumping Duty Administrative Review of Circular Welding Non-Alloy Steel Pipe from the Republic of Korea: Supplemental Questionnaire,” (December 18, 2015); see also Letter from SeAH, “Administrative Review of the Antidumping Order on Circular Welded Non-Alloy Steel Pipe from Korea for the 2013-2014 Review Period—Response to December 18 Supplemental Questionnaire,” (December 28, 2015).

On January 4 and January 20, 2016, the Department extended the briefing schedule.³ On April 5, 2016, the Department issued a memorandum extending the time period for issuing the final results of this administrative review by 60 days, from April 12, 2016 to June 10, 2016, as permitted by section 751(a)(3)(A) of the Tariff Act of 1930, as amended (the Act) and 19 CFR 351.213(h)(2).⁴

³ See Memorandum to the File, “Extension of the Briefing Schedule,” (January 4, 2016) and Memorandum to all interested parties, “Second Extension of the Briefing Schedule,” (January 20, 2016); we also extended the deadline to submit rebuttal briefs. See memorandum to all interested parties, “Extension of the Deadline to submit Rebuttal Briefs,” (February 5, 2016).

⁴ See Memorandum to Christian Marsh, Deputy Assistant Secretary for Antidumping and Countervailing Duty Operations entitled “Circular Welded Non-Alloy Steel Pipe from the Republic of Korea: Extension of Time Limit for Final Results of Antidumping Duty Administrative Review,” (April 5, 2016).

On January 7, 2016, Husteel and HYSCO both requested a hearing. These requests were subsequently withdrawn.⁵ On February 3, 2016, we received case briefs from JMC Steel Group (JMC) and Allied Tube and Conduit (Allied) (the petitioners), Husteel, HYSCO, and SeAH.⁶ On February 12, 2015, we received rebuttal briefs from the petitioners, SeAH, and HYSCO.⁷

⁵ See Letter from Hyundai Steel Company, “Administrative Review of Circular Welded Non-Alloy Steel Pipe from the Republic of Korea: Request for Public Hearing,” (January 7, 2016); see also Letter from Husteel, “Certain Circular Welded Non-Alloy Steel Pipe from the Republic of Korea, Case No. A-580-809: Request for Hearing,” (January 7, 2016); and the withdrawal requests, see See Letter from Hyundai Steel Company, “Administrative Review of Circular Welded Non-Alloy Steel Pipe from the Republic of Korea: Withdrawal of Request for Hearing,” (February 22, 2016); see also Letter from Husteel, “Certain Circular Welded Non-Alloy Steel Pipe from the Republic of Korea, 11/1/2014-10/31/2014 Administrative Review, Case No. A-580-809: Withdrawal of Request for Hearing,” (February 19, 2016).

⁶ See Case Brief of the Petitioners, “Circular Welded Non-Alloy Steel Pipe From the Republic of Korea: Case Brief,” (February 3, 2016); see also Case Brief of Husteel, “Certain Circular Welded Non-Alloy Steel Pipe from the Republic of Korea, Case No. A-580-809: Case Brief,” (February 3, 2016); Case Brief of HYSCO, “Certain Circular Welded Non-Alloy Steel Pipe from the Republic of Korea: Case Brief,” (February 3, 2016); Case Brief of SeAH, “Administrative Review of the Antidumping Order on Circular Welded Non-Alloy Steel Pipe from Korea for the 2013-2014 Review Period—Case Brief,” (February 3, 2016).

⁷ See Rebuttal Brief of the petitioners, “Circular Welded Non-Alloy Steel Pipe From the Republic of Korea: Rebuttal Brief,” (February 12, 2016), and see Rebuttal Brief from Hundai HYSCO, “Certain Circular Welded Non-Alloy Steel Pipe from the Republic of Korea: Rebuttal Brief,” (February 12, 2016); see also Rebuttal Brief from SeAH, “Administrative Review of the Antidumping Order on Circular Welded Non-Alloy Steel Pipe from Korea for the 2013-2014 Review Period—Rebuttal Brief,” (February 12, 2016).

Scope of the Order

The merchandise subject to the order is circular welded non-alloy steel pipe and tube. The product is currently classified under the following Harmonized Tariff Schedule of the United States (HTSUS) subheadings: 7306.30.10.00, 7306.30.50.25, 7306.30.50.32, 7306.30.50.40, 7306.30.50.55, 7306.30.50.85, and 7306.30.50.90. Although the HTSUS numbers are provided for convenience and customs purposes, the written product description remains dispositive.

A full description of the scope of the order is contained in the memorandum from Christian Marsh, Deputy Assistant Secretary for Antidumping and Countervailing Duty Operations to Paul Piquado, Assistant Secretary for Enforcement and Compliance, “Decision Memorandum for the Final Results of Antidumping Duty Administrative Review: Circular Welded Non-Alloy Steel Pipe from the Republic of Korea: 2013-2014,” dated concurrently with this notice (Issues and Decision Memorandum), and which is hereby adopted by this notice.

Analysis of Comments Received

All issues raised in the parties' briefs are addressed in the Issues and Decision Memorandum. A list of the issues raised is attached to this notice as an Appendix. The Issues and Decision Memorandum is a public document and is on file electronically via Enforcement and Compliance's Antidumping and Countervailing Duty Centralized Electronic Service System (ACCESS). ACCESS is available to registered users at http://access.trade.gov, and is available to all parties in the Central Records Unit, room B8024 of the main Department of Commerce building. In addition, a complete version of the Issues and Decision Memorandum can be accessed directly on the Internet at http://trade.gov/enforcement. The signed Issues and Decision Memorandum and the electronic versions of the Issues and Decision Memorandum are identical in content.

Changes From the Preliminary Results

Based on our analysis of the comments received from interested parties, we have made certain changes for SeAH since the Preliminary Results. For home market sales that SeAH identified as consignment sales, in accordance with the Department's practice, we have used the date the customer withdrew the merchandise from consignment inventory as the appropriate date of sale. For all remaining sales we continue to follow our practice as described in the Preliminary Results. Additionally, we have recalculated inventory carrying costs for direct shipment CEP sales based on the inventory period from factory production to shipment to the U.S. customer.⁸

⁸ For a discussion of these changes, see the accompanying Issues and Decision Memorandum at Comment 7 and SeAH's Final Determination Calculation Memorandum dated concurrently with this Federal Register notice.

Final Results of the Review

As a result of this review, we determine that the following weighted-average dumping margins exist for the period November 1, 2013 through October 31, 2014:

Producer/Exporter | Weighted- average dumping margin (percent)
Husteel Co., Ltd | 1.42
Hyundai HYSCO | 1.62
SeAH Steel Corporation | 0.00

Disclosure

We will disclose the calculations used in our analysis to parties to these proceedings within five days of the date of publication of this notice pursuant to 19 CFR 351.224(b).

Assessment Rates

Pursuant to section 751(a)(2)(A) and (C) of the Act, and 19 CFR 351.212(b)(1), the Department has determined, and U.S. Customs and Border Protection (CBP) shall assess, antidumping duties on all appropriate entries of subject merchandise in accordance with the final results of this review. The Department intends to issue assessment instructions to CBP 15 days after the date of publication of these final results of review.

For assessment purposes, Husteel, HYSCO, and SeAH reported the name of the importer of record and the entered value for all of their sales to the United States during the period of review (POR). Accordingly, for each respondent, we calculated importer-specific ad valorem antidumping duty assessment rates on the basis of the ratio of the total amount of dumping calculated for the importer's examined sales and the total entered value of those same sales in accordance with 19 CFR 351.212(b)(1). Where an importer-specific assessment rate is zero or de minimis (i.e., less than 0.5 percent), we will instruct CBP to liquidate the appropriate entries without regard to antidumping duties in accordance with 19 CFR 351.106(c)(2).

For entries of subject merchandise during the POR produced by Husteel, HYSCO, and SeAH which they did not know were destined for the United States, we will instruct CBP to liquidate unreviewed entries at the all-others rate if there is no rate for the intermediate company or companies involved in the transaction. For a full discussion of this clarification, see Antidumping and Countervailing Duty Proceedings: Assessment of Antidumping Duties, 68 FR 23954 (May 6, 2003).

Cash Deposit Requirements

The following cash deposit requirements will be effective upon publication of the notice of final results of administrative review for all shipments of subject merchandise entered or withdrawn from warehouse, for consumption, on or after the date of publication, as provided by section 751(a)(2)(C) of the Act: (1) The cash deposit rate for Husteel, HYSCO, and SeAH will be equal to the respective weighted-average dumping margins established in the final results of this review; (2) for merchandise exported by manufacturers or exporters not covered in this review, but covered in a prior segment of the proceeding, the cash deposit rate will continue to be the company-specific rate published for the most recently completed segment of this proceeding in which that manufacturer or exporter participated; (3) if the exporter is not a firm covered in this review, a prior review, or the original investigation but the manufacturer is, the cash deposit rate will be the rate established for the most recently completed segment of this proceeding for the manufacturer of subject merchandise; and (4) the cash deposit rate for all other manufacturers or exporters will continue to be 4.80 percent, the “all others” rate established pursuant to a court decision.⁹ These cash deposit requirements, when imposed, shall remain in effect until further notice.

⁹ See Circular Welded Non-Alloy Steel Pipe From Korea: Notice of Final Court Decision and Amended Final Determination, 60 FR 55833 (November 3, 1995).

Notification to Importers Regarding the Reimbursement of Duties

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

Notification Regarding Administrative Protective Order

This notice also serves as a reminder to parties subject to administrative protective order (APO) of their responsibility concerning the disposition of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

These final results of administrative review are issued and published in accordance with sections 751(a)(1) and 777(i)(1) of the Act.

Dated: June 10, 2016.
Paul Piquado,
Assistant Secretary for Enforcement and Compliance.

Appendix—List of Issues Discussed in the Issues and Decision Memorandum

Summary

Background

Changes Since the Preliminary Results

List of Comments

Scope of the Order

Discussion of the Issues

Comment 1: Whether the Cohen's d Test Measures “Targeted” or Masked Dumping

Comment 2: Whether the Ratio Test Is Arbitrary and Whether the “Meaningful Difference Requirement” Was Satisfied

Comment 3: Whether Consideration of an Alternative Comparison Method Is Permitted in Administrative Reviews

Comment 4: Whether the Mixed Methodology Leads to Zeroing

Comment 5: The Appropriate Universe of HYSCO's Home Market Sales

Comment 6: Whether Certain HYSCO Sales Are Outside the Ordinary Course of Trade

Comment 7: SeAH's Reported Credit Expense for Back-to-Back U.S. Sales

Comment 8: Whether To Use SeAH's Reported Nominal Outside Diameter

Comment 9: Husteel's Cost Reallocation

Comment 10: HYSCO's Cost Reallocation

Comment 11: SeAH's Cost Reallocation

Comment 12: Whether To Assign HYSCO's

Cash Deposit Rate to Hyundai Steel Recommendation

[FR Doc. 2016-14425 Filed 6-17-16; 8:45 am]

BILLING CODE 3510-DS-P